SOCIAL SECURITY ADMINISTRATION

[Docket No. SSA-2012-0049]

Notice of Senior Executive Service Performance Review Board Membership

AGENCY: Social Security Administration.

ACTION: Notice of Senior Executive Service Performance Review Board Membership.

Title 5, U.S. Code, 4314(c)(4), requires that the appointment of Performance Review Board members be published in the Federal Register before service on said Board begins.

The following persons will serve on the Performance Review Board which oversees the evaluation of performance appraisals of Senior Executive Service members of the Social Security Administration:

Sean Brune

Brad Flick

Gwenda Jones Kelley

James Julian *

Van Nguyen

Thomas Parrott

Steven Patrick

DeBorah Russell

Vance Teel

Daryl Wise

* New Member

Dated: August 1, 2012.
Reginald F. Wells,
Deputy Commissioner for Human Resources.

[FR Doc. 2012-19328 Filed 8-7-12; 8:45 am]

BILLING CODE 4191-02-P